DEPARTMENT OF HOUSING AND URBAN DEVELOPMENT

[Docket No. FR-6555-N-02]

Request for Information on the Uses of Rental Housing Finance Survey Data; Extension of Comment Period

AGENCY: Office of the Assistant Secretary for Policy Development and Research, Department of Housing and Urban Development (HUD).

ACTION: Extension of comment period for request for information.

SUMMARY: On September 9, 2025, the Department of Housing and Urban Development (HUD) published in the Federal Register a document titled, “Request for Information on the Uses of Rental Housing Finance Survey Data.” (RFI). The request for comment provided for a 60-day comment period, which ended on November 10, 2025. HUD has determined that a 45-day extension of the comment period is appropriate to allow interested persons additional time to provide responses. HUD is evaluating current needs for data from the Rental Housing Finance Survey (RHFS). As part of this evaluation, HUD is soliciting information from the public on uses of RHFS data and other comments or concerns about the RHFS.

DATES: The comment period for the request for comment published on September 9, 2025, at 90 FR 43463, is extended to January 30, 2026. Late-filed comments will be considered to the extent practicable.

ADDRESSES: Interested persons are invited to submit comments responsive to the Request For Information. Copies of all comments submitted are available for inspection and downloading at www.regulations.gov. To receive consideration as public comments, comments must be submitted through one of the two methods specified below. All submissions must refer to the above docket number and title. Commenters are encouraged to identify the number of the specific question or questions to which they are responding. Responses should include the name(s) of the person(s) or organization(s) filing the comment; however, because any responses received by HUD will be publicly available, responses should not include any personally identifiable information or confidential commercial information.

1. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

2. Submission of Comments by Mail. Comments may be submitted by mail to the Regulations Division, Office of General Counsel, Department of Housing and Urban Development, 451 7th Street SW, Room 10276, Washington, DC 20410-0500.

FOR FURTHER INFORMATION CONTACT: George Carter, Director, Housing and Demographic Analysis Division, Office of Policy Development and Research, 451 7th Street SW, Room 8222, Washington, DC 20410-0500, telephone number 202-402-5873 (this is not a toll-free number). HUD welcomes and is prepared to receive calls from individuals who are deaf or hard of hearing, as well as individuals with speech and communication disabilities. To learn more about how to make an accessible telephone call, please visit: https://www.fcc.gov/consumers/guides/telecommunications-relay-service-trs.

SUPPLEMENTARY INFORMATION: The purpose of the Rental Housing Finance Survey (RHFS) is to provide a current and continuous measure of the financial, mortgage and property characteristics of single-family and multifamily rental housing properties in the United States. The survey provides information on the financing of rental housing properties with emphasis on new originations for purchase, refinancing, and loan terms associated with these originations. In addition, the survey includes information on property characteristics, such as number of units, amenities available, rental income, operating costs, and capital expenditure information. The RHFS presents a full picture of the financing of rental housing, which is much more fragmented than the market for owner-occupied mortgages that is well documented by the private sector and supported by HUD, the Government Sponsored Enterprises, Fannie Mae and Freddie Mac, the Department of Veterans' Affairs, the U.S. Department of Agriculture's Rural Housing Service, and banks. The RHFS is the only data source with detailed information on the mortgage financing of multifamily rental properties with two or more units. RHFS data, tables, and documentation can be found here: https://www.census.gov/programs-surveys/rhfs.html.

In furtherance of its efforts to evaluate current needs for data from the RHFS, HUD published in the Federal Register a document titled “Request for Information on the Uses of Rental Housing Finance Survey Data”. The request for information solicits comment input to improve HUD's understanding of how RHFS data is used and better understand concerns about the RHFS. While the request for information originally provided for a 30-day comment period, HUD has determined that extending the public comment period by an additional 45 days will better allow the public to submit comments that will help HUD gather information necessary for its evaluation of data needs from the RHFS. Thus, HUD is extending the date for public comment until January 30, 2026.

John Gibbs,
Principal Deputy Assistant Secretary for Policy Development and Research.

[FR Doc. 2025-22958 Filed 12-15-25; 8:45 am]

BILLING CODE 4210-67-P